DEPARTMENT OF COMMERCE

International Trade Administration

[A-549-817]

Certain Hot-Rolled Carbon Steel Flat Products from Thailand: Correction to Preliminary Results of Changed Circumstances Review and Intent To Reinstate Sahaviriya Steel Industries Public Company Limited in the Antidumping Duty Order

AGENCY: Import Administration, International Trade Administration, Department of Commerce.

EFFECTIVE DATE: December 30, 2008.

FOR FURTHER INFORMATION CONTACT: John Drury or Angelica Mendoza, AD/CVD Operations, Office 7, Import Administration, International Trade Administration, U.S. Department of Commerce, 14th Street and Constitution Avenue NW, Washington, DC 20230; telephone: (202) 482-0195 or (202) 482-3019, respectively.

SUPPLEMENTARY INFORMATION:

Correction

On December 30, 2008, the Department of Commerce (“the Department”) published a notice of preliminary results of the changed circumstances review of the antidumping duty order on certain hot-rolled carbon steel flat products from Thailand. See Certain Hot-Rolled Carbon Steel Flat Products from Thailand: Preliminary Results of Changed Circumstances Review and Intent To Reinstate Sahaviriya Steel Industries Public Company Limited in the Antidumping Duty Order, 73 FR 79809 (December 30, 2008) (“Preliminary Results”). Subsequent to the publication of the Preliminary Results in the Federal Register, we identified an inadvertent error.

The Preliminary Results notice is internally inconsistent. The Preliminary Results correctly state that the Department preliminarily determined a weighted-average dumping margin of 9.05 percent covering Sahaviriya Steel Industries Public Company Limited (“SSI”) during the period July 1, 2006, through June 30, 2007, but then incorrectly state that a cash-deposit requirement of 6.42 percent will be in effect for all shipments of the subject merchandise manufactured and exported by SSI entered, or withdrawn from warehouse, for consumption on or after the publication date of the Preliminary Results. See Preliminary Results, 73 FR at 79814. To resolve this discrepancy and prevent confusion, the Preliminary Results notice is hereby corrected to read that a cash-deposit requirement of 9.05 percent will be in effect for all shipments of the subject merchandise manufactured and exported by SSI entered, or withdrawn from warehouse, for consumption on or after the publication date of the Preliminary Results. Accordingly, the Department will instruct U.S. Customs and Border Protection to suspend liquidation of all entries of subject merchandise manufactured and exported by SSI entered, or withdrawn from warehouse, for consumption on or after the date of publication of the Preliminary Results at a rate of 9.05 percent.

This notice is published in accordance with section 777(i) of the Tariff Act of 1930, as amended.

Dated: January 30, 2009.
John M. Andersen,
Acting Deputy Assistant Secretary for Antidumping and Countervailing Duty Operations.

[FR Doc. E9-2477 Filed 2-4-09; 8:45 am]

BILLING CODE 3510-DS-S